DEPARTMENT OF COMMERCE

International Trade Administration

[A-570-979]

Crystalline Silicon Photovoltaic Cells, Whether or Not Assembled Into Modules, From the People's Republic of China: Notice of Partial Rescission of Antidumping Duty Administrative Review; 2017-2018

AGENCY: Enforcement and Compliance, International Trade Administration, Department of Commerce.

SUMMARY: The Department of Commerce (Commerce) is rescinding, in part, the administrative review of the antidumping duty order on crystalline silicon photovoltaic cells, whether or not assembled into modules from the People's Republic of China (China) for the period of review (POR) December 1, 2017, through November 30, 2018.

DATES: Applicable September 18, 2019.

FOR FURTHER INFORMATION CONTACT: Jeff Pedersen, AD/CVD Operations, Office IV, Enforcement and Compliance, International Trade Administration, U.S. Department of Commerce, 1401 Constitution Avenue NW, Washington, DC 20230, telephone: (202) 482-2769.

SUPPLEMENTARY INFORMATION:

Background

On December 7, 2012, the Department of Commerce (Commerce) published in the Federal Register the antidumping duty order on crystalline silicon photovoltaic cells, whether or not assembled into modules, from China.¹ On December 3, 2018, Commerce published a notice of opportunity to request an administrative review of the Order.² Commerce received multiple timely requests for an administrative review of the Order. On March 14, 2019, in accordance with section 751(a) of Tariff Act of 1930, as amended (the Act), Commerce published in the Federal Register a notice of the initiation of an administrative review of the Order.³ The administrative review was initiated with respect to 54 companies or groups of companies, and covers the period from December 1, 2017, through November 30, 2018. Requesting parties have subsequently timely withdrawn all review requests for 14 companies or groups of companies for which Commerce initiated a review, as discussed below.

¹ See Crystalline Silicon Photovoltaic Cells, Whether or Not Assembled Into Modules, from the People's Republic of China: Amended Final Determination of Sales at Less Than Fair Value, and Antidumping Duty Order, 77 FR 73018 (December 7, 2012) (Order).

² See Antidumping or Countervailing Duty Order, Finding, or Suspended Investigation; Opportunity To Request Administrative Review, 83 FR 62293 (December 3, 2018).

³ See Initiation of Antidumping and Countervailing Duty Administrative Reviews, 84 FR 9297 (March 14, 2019) (Initiation Notice).

Rescission of Review, in Part

Pursuant to 19 CFR 351.213(d)(1), Commerce will rescind an administrative review, in whole or in part, if the party that requested the review withdraws its request within 90 days of the publication of the notice of initiation of the requested review. All requesting parties withdrew their respective requests for an administrative review of the 14 companies or groups of companies listed in the Appendix within 90 days of the date of publication of Initiation Notice. Accordingly, Commerce is rescinding this review with respect to these companies, in accordance with 19 CFR 351.213(d)(1).⁴

⁴ See Appendix. As stated in Change in Practice in NME Reviews, Commerce will no longer consider the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013). The China-wide entity is not subject to this administrative review because no interested party requested a review of the entity. See Initiation Notice.

Assessment

Commerce will instruct U.S. Customs and Border Protection (CBP) to assess antidumping duties on all appropriate entries. For the companies for which this review is rescinded, antidumping duties shall be assessed on the subject merchandise at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

This notice is issued and published in accordance with sections 751(a)(1) and 777(i)(1) of the Act, and 19 CFR 351.213(d)(4).

Dated: September 12, 2019.
James Maeder,
Deputy Assistant Secretary for Antidumping and Countervailing Duty Operations.

Appendix

• Canadian Solar (USA) Inc.

• Canadian Solar Inc.

• Chint Solar (Zhejiang) Co., Ltd.

• ET Solar Industry Limited

• Hangzhou Zhejiang University Sunny Energy Science and Technology Co., Ltd.

• Jiangsu Sunlink PV Technology Co., Ltd.

• JinkoSolar (U.S.) Inc.

• Nice Sun PV Co., Ltd.

• Shenzhen Topray Solar Co., Ltd.

• Sunpreme Inc.

• Xiamen Eco-sources Technology Co., Ltd.

• Yingli Green Energy Holding Company Limited

• Yingli Green Energy International Trading Company Limited

• Taizhou BD Trade Co., Ltd.

[FR Doc. 2019-20178 Filed 9-17-19; 8:45 am]

BILLING CODE 3510-DS-P